DEPARTMENT OF JUSTICE

Office of Justice Programs

[OJP (OJP) Docket No. 1476]

Hearing of the Review Panel on Prison Rape

AGENCY: Office of Justice Programs, Justice.

ACTION: Notice of hearing.

SUMMARY: The Office of Justice Programs (OJP) announces the second and third hearings of the Review Panel on Prison Rape (Panel), which will be held in Washington, DC, on March 11-14, 2008, and in Houston, Texas on March 27-28, 2008. The hearing times and location are noted below. The purpose of the hearings is to assist the Bureau of Justice Statistics (BJS) in identifying common characteristics of victims and perpetrators of prison rape, and prison systems with the highest and lowest incidence of prison rape. On December 16, 2007, BJS issued the report Sexual Victimization in State and Federal Prisons Reported by Inmates, 2007. The report presents data from the National Inmate Survey, 2007 conducted in 146 state and federal prisons. The report provides a listing of state and federal prisons ranked according to the incidence of prison rape as required by the Prison Rape Elimination Act of 2003. The Panel is required to conduct separate public hearings on the operations of the three prisons with the highest incidence of prison rape and the two prisons with the lowest incidence of prison rape.

DATES: The hearing schedule is as follows:

1. Tuesday, March 11, 2008, 9 a.m. to 5 p.m., in Washington, DC (facilities with lowest incidences of sexual victimization): Ironwood State Prison, California Department of Corrections and Rehabilitation, and Schuylkill Federal Correctional Institution, Federal Bureau of Prisons.

2. Wednesday-Friday, March 12-14, 2008, 9 a.m. to 5 p.m., in Washington, DC (facilities with highest incidences of sexual victimization): Charlotte Correctional Institution, Florida Department of Corrections; Rockville Correctional Institution, Indiana Department of Corrections; and Tecumseh State Correctional Institution, Nebraska Department of Corrections.

3. Thursday-Friday, March 27-28, 2008, 1 p.m. to 5 p.m. on Thursday, and 9 a.m. to 5 p.m., on Friday in Houston, Texas (facilities with highest incidences of sexual victimization): Texas Department of Criminal Justice's Estelle, Clements, Coffield, Allred, and Mountain View Units.

ADDRESSES: The hearings on March 11-14, 2008 will take place in Washington, DC at the Department of Justice, Office of Justice Programs' Main Conference Room, Third Floor, 810 7th Street, NW., Washington, DC 20531. The hearings on March 27-28, 2008 will take place at the T. Gerald Treece Courtroom located at the South Texas College of Law, 1303 San Jacinto Street, Houston, Texas 77002.

FOR FURTHER INFORMATION CONTACT: Kathleen M. Severens, Designated Federal Official, OJP, Kathleen.Severens@usdoj.gov, or (202) 307-0690 [Note: This is not a toll-free number.]

SUPPLEMENTARY INFORMATION: The Panel, which was established pursuant to the Prison Rape Elimination Act of 2003, Public Law 108-79, 117 Stat. 972 (codified as amended at 42 U.S.C. 15601-15609 (2006)), will hold its next hearings to carry out the review functions specified at 42 U.S.C. 15603(b)(3)(A). Testimony from the hearings will assist the Panel in formulating best practices for deterring prison rape.

Members of the public who wish to attend the hearings must present photo identification upon entrance to the Office of Justice Programs. Space is limited. Special needs requests should be made to Kathleen M. Severens, Designated Federal Official, OJP, Kathleen.Severens@usdoj.gov or 202-307-0690, at least one week prior to the hearings. Updated information about the hearings will be available on the Panel's Web site at http://www.ojp.usdoj.gov/reviewpanel/.

Dated: February 11, 2008.
Michael Alston,
Office of Justice Programs.

[FR Doc. E8-3016 Filed 2-15-08; 8:45 am]

BILLING CODE 4410-18-P